DEPARTMENT OF COMMERCE

National Oceanic and Atmospheric Administration

50 CFR Part 635

[Docket No. 220919-0193; RTID 0648-XE934]

Atlantic Highly Migratory Species; Atlantic Bluefin Tuna Fisheries; Angling Category Retention Limit Adjustment

AGENCY: National Marine Fisheries Service (NMFS), National Oceanic and Atmospheric Administration (NOAA), Commerce.

ACTION: Temporary rule; retention limit adjustment.

SUMMARY: NMFS has determined, based on consideration of the regulatory determination criteria regarding inseason adjustments, that the Atlantic bluefin tuna (BFT) daily retention limit that applies to Highly Migratory Species (HMS) Angling and HMS Charter/Headboat permitted vessels (when fishing recreationally for BFT) should be adjusted for the remainder of 2025, or until further modified. NMFS is adjusting the Angling category BFT daily retention limit from the default of one school, large school, or small medium BFT to: one school BFT and zero large school/small medium BFT per vessel per day/trip for private vessels with HMS Angling permits; two school BFT and zero large school/small medium BFT per vessel per day/trip for charter boat vessels with HMS Charter/Headboat permits when fishing recreationally for BFT; and two school BFT and zero large school/small medium BFT per vessel per day/trip for headboat vessels with HMS Charter/Headboat permits when fishing recreationally for BFT. These retention limits are effective in all areas, except for the Gulf of America, where targeted fishing for BFT is prohibited.

DATES: Effective June 3, 2025 through December 31, 2025 or until NMFS via a notice in the Federal Register announces another adjustment to the retention limit.

FOR FURTHER INFORMATION CONTACT: Larry Redd, Jr., larry.redd@noaa.gov, or Ann Williamson, ann.williamson@noaa.gov, by email or by phone at 301-427-8503.

SUPPLEMENTARY INFORMATION: Atlantic BFT fisheries are managed under the 2006 Consolidated Highly Migratory Species Fishery Management Plan (HMS FMP) and its amendments, pursuant to the Magnuson-Stevens Fishery Conservation and Management Act (Magnuson-Stevens Act; 16 U.S.C. 1801 et seq.) and consistent with the Atlantic Tunas Convention Act (ATCA; 16 U.S.C. 971 et seq.). ATCA is the implementing statute for binding recommendations of the International Commission for the Conservation of Atlantic Tunas (ICCAT). The HMS FMP and its amendments are implemented by regulations are at 50 CFR part 635. Section 635.27(a) divides the U.S. BFT quota, established by ICCAT and as implemented by the United States among the various domestic fishing categories, per the allocations established in the HMS FMP and its amendments. NMFS is required under the Magnuson-Stevens Act at 16 U.S.C. 1854(g)(1)(D) to provide U.S. fishing vessels with a reasonable opportunity to harvest quotas under relevant international fishery agreements such as the ICCAT Convention, which is implemented domestically pursuant to ATCA.

On January 20, 2025, President Trump issued Executive Order (E.O.) 14172 (Restoring Names that Honor American Greatness). As part of the order, the Gulf of Mexico is renamed as the Gulf of America. Consistent with the order, this action uses Gulf of America for all references to the area known as the Gulf of Mexico in the specific regulations at 50 CFR part 635.

As described in § 635.27(a), the current baseline U.S. BFT quota is 1,316.14 metric tons (mt) (not including the 25-mt ICCAT allocated to the United States to account for bycatch of BFT in pelagic longline fisheries in the Northeast Distant Gear Restricted Area). The Angling category baseline quota is 297.4 mt. This baseline quota is further subdivided into subquotas by size class (see table 1) as follows: 134.1 mt for school BFT, 154.1 mt for large school/small medium BFT, and 9.2 mt for large medium/giant BFT. Large school and small medium BFT traditionally have been managed as one size class, i.e., a limit of one large school/small medium BFT (measuring 47 to less than 73 inches (119 to less than 150 cm)). Similarly, large medium and giant BFT traditionally have been managed as one size class that is also known as the “trophy” class. Currently, the default Angling category daily retention limit of one school, large school, or small medium BFT is in effect and applies to HMS Angling and HMS Charter/Headboat permitted vessels (when fishing recreationally for BFT) (§ 635.23(b)(2)).

Table 1—BFT Size Classes
Size class | Curved fork length
School | 27 to less than 47 inches (68.5 to less than 119 cm).
Large school | 47 to less than 59 inches (119 to less than 150 cm).
Small medium | 59 to less than 73 inches (150 to less than 185 cm).
Large medium | 73 to less than 81 inches (185 to less than 206 cm).
Giant | 81 inches or greater (206 cm or greater).

Adjustment of Angling Category Daily Retention Limit

Under § 635.23(b)(3), NMFS may increase or decrease the Angling category daily retention limit for any size class of BFT after considering the regulatory determination criteria under § 635.27(a)(7). Also under § 635.23(b)(3), recreational retention limits may be adjusted separately for specific vessel type, such as private vessels, charter boats, or headboats.

NMFS has considered all of the relevant determination criteria and their applicability to the change in the Angling category retention limit. After considering these criteria, NMFS has decided to adjust the Angling category retention limit as follows:

(1) For private vessels with HMS Angling permits, this action adjusts the limit to one school BFT and zero large school/small medium BFT per vessel per day/trip (i.e., one BFT measuring 27 to less than 47 inches (68.5 to less than 119 cm) and zero BFT measuring 47 to less than 73 inches (119 to less than 185 cm)).

(2) For charter boat vessels with HMS Charter/Headboat permits, this action adjusts the limit to two school BFT and zero large school/small medium BFT per vessel per day/trip when fishing recreationally for BFT (i.e., two BFT measuring 27 to less than 47 inches (68.5 to less than 119 cm) and zero BFT measuring 47 to less than 73 inches (119 to less than 185 cm)).

(3) For headboat vessels with HMS Charter/Headboat permits, this action adjusts the limit to two school BFT and zero large school/small medium BFT per vessel per day/trip when fishing recreationally for BFT (i.e., two BFT measuring 27 to less than 47 inches (68.5 to less than 119 cm) and zero BFT measuring 47 to less than 73 inches (119 to less than 185 cm)).

Regardless of the duration of a fishing trip, no more than a single day's retention limit may be possessed or retained at the end of the trip upon landing. For example, whether a private vessel (fishing under the Angling category retention limit) takes a two-day trip or makes two trips in one day, the day/trip retention limit of one school BFT and zero large school/small medium BFT applies and may not be exceeded upon landing.

Consideration of the Determination Criteria

As described above, under § 635.23(b)(3), NMFS may increase or decrease the retention limit for any size class of BFT, or change a vessel trip limit to an angler trip limit and vice versa after considering the regulatory determination criteria under § 635.27(a)(7). These considerations include, but are not limited to, the following:

Regarding the usefulness of information obtained from catches in the particular category for biological sampling and monitoring of the status of the stock (§ 635.27(a)(7)(i)), biological samples collected from BFT landed by recreational fishermen continue to provide NMFS with valuable parts and data for ongoing scientific studies of BFT age and growth, migration, and reproductive status. Additional opportunity to land BFT in the Angling category would support the continued collection of a broad range of data for these studies and for stock monitoring purposes.

NMFS also considered the catches of the Angling category quota to date and the likelihood of closure of that segment of the fishery if no adjustment is made (§ 635.27(a)(7)(ii)). In addition to Angling category landings to date in 2025, NMFS considered Angling category landings in 2024, which totaled 452.7 mt, exceeding the 297.4 mt annual Angling category quota by 52 percent. School and large school/small medium BFT landings totaled 152.6 mt and 281.6 mt, exceeding the school and large school/small medium BFT subquotas by 14 percent and 83 percent, respectively. NMFS notes that the daily retention limits for private, charter boat, and headboat vessels in 2024 were higher than the daily retention limits established in this action. Given fishery performance in recent years and the high availability of BFT on fishing grounds, it is very likely that under the default daily retention limits, which allows fishermen to land heavier-weight large school/small medium BFT the recreational fishery could reach the available 2025 Angling category quota and subquotas relatively early in the season resulting in a premature closure of the recreational BFT fisheries. As such, NMFS believes adjusting the daily retention limits to the levels established in this action, which limits landings to lower-weight school sized BFT, would assist in extending the time it takes to harvest the Angling category quota and subquotas. Should recreational landings be higher or lower than expected, NMFS could take another action later in the year to further adjust the daily retention limit or close all or part of the fishery.

NMFS also considered the effects of the adjustment on the BFT stock and the effects of the adjustment on accomplishing the objectives of the HMS FMP (§ 635.27(a)(7)(v) and (vi)). Adjusting the retention limits would be consistent with established quotas and subquotas, which are implemented consistent with ICCAT Recommendation 22-10, ATCA, and the objectives of the HMS FMP and amendments. In establishing these quotas and subquotas and associated management measures, ICCAT and NMFS considered the best scientific information available, objectives for stock management and status, and effects on the stock. Making these adjustments is in line with the established management measures and stock status determinations. It is also important that NMFS limit landings to the subquotas both to adhere to the subquota allocations and to ensure that landings are as consistent as possible with the pattern of fishing mortality (e.g., fish caught at each age) that was assumed in the latest stock assessment. These retention limit adjustments are consistent with those objectives.

Another principal consideration in setting the retention limit is the objective of providing opportunities to harvest the available Angling category quota without exceeding the annual quota. This consideration is based on the objectives of the HMS FMP and its amendments, and includes achieving optimum yield on a continuing basis and optimizing the ability of all permit categories to harvest available BFT quota allocations (related to § 635.27(a)(7)(x)).

In implementing this retention limit adjustment, NMFS considered that ICCAT recommendations and HMS implementing regulations limit the allowance for landings of school BFT to 10 percent of the U.S. baseline quota (i.e., 134.1 mt, see § 635.27(a)(2)), as well as input on recreational limits from the HMS Advisory Panel in 2024 and most recently at its May 2025 meeting. The 2024 school BFT landings represented approximately 11.4 percent of the U.S. baseline annual quota for 2024, slightly exceeding the ICCAT established 10-percent limit. In contrast to previous years, NMFS is currently not setting higher school BFT retention limits than those established in this action due to the potential risk of exceeding the ICCAT tolerance limit on school BFT, as well as for other considerations such as potential effort shifts to BFT fishing as a result of current recreational retention limits for New England groundfish and striped bass and high variability in BFT availability (related to § 635.27(a)(7)(vii).

Furthermore, as mentioned above, the large school/small medium quota for 2024 was exceeded. NMFS examined the results of the 2024 fishing year under the applicable daily retention limits, as well as the observed trend in the recreational fishery toward heavier fish, particularly in the large school and small medium size classes. NMFS believes it reasonable to assume that the large school/small medium subquota would be exceeded quickly under the default daily retention limit, particularly due to the high availability of large school/small medium BFT (related to § 635.27(a)(7)(ix). Thus, NMFS believes prohibiting the retention of large school/small medium BFT is appropriate at this time. If needed, NMFS could take another action later in the year to increase the large school/small medium BFT retention limits. NMFS notes that HMS Angling and HMS Charter/Headboat permitted vessels (when fishing recreationally for BFT) may continue to catch and release (or tag and release) large school/small medium BFT.

Lastly, NMFS has also concluded that implementation of separate limits for private and charter/headboat vessels is appropriate, recognizing the different nature, social and economic needs, and recent landings results of these components of the recreational BFT fishery. For example, charter operators historically have indicated that a retention limit greater than the default limit of one fish is vital to their ability to attract customers. In addition, Large Pelagics Survey estimates indicate that charter/headboat BFT landings averaged 26 percent of recent Angling category landings for 2024, with the remaining 74 percent landed by private vessels. In past years, NMFS has acknowledged that a higher limit for headboats (than charter boats) was appropriate, given the limited number of headboats participating in the BFT fishery. However, given that the Angling category quota and subquotas in 2024 were exceeded and there is potential risk to exceeding the 2025 Angling category quota and subquotas, NMFS believes setting the same charter and headboat daily retention limit is appropriate at this time.

Given these considerations, NMFS has determined that the Angling category daily retention limits applicable to HMS Angling and HMS Charter/Headboat permitted vessels should be adjusted from the default levels. The retention limits established through this action are intended to provide a reasonable opportunity to harvest the available Angling category quota and subquotas, without exceeding them, while maintaining equitable fishing opportunities. NMFS acknowledges that the BFT daily retention limits in this action may result in landings during 2025 that could reach or exceed the annual Angling category quota and subquotas. However, lower retention limits could result in substantial social and economic impacts for the recreational BFT fishery. Furthermore, if effort is lower than previous years or if catch rates are not as high as anticipated, maintaining the default retention limit could result in an underharvest of the Angling category quota and subquotas. As described earlier, if needed and appropriate, NMFS could take another action(s) later in the year to increase or decrease the retention limits or close the fishery. Although NMFS has not closed the recreational fishery prior to the end of the fishing year in recent years (i.e., the fishery has remained open through December), the possibility of NMFS needing to close the fishery earlier in the fishing year (e.g., in the summer or fall) is more likely this year.

Monitoring and Reporting

NMFS will continue to monitor the BFT fishery closely. HMS Angling and HMS Charter/Headboat permitted vessel owners are required to report the catch of all BFT retained or discarded dead, within 24 hours of the landing(s) or the end of each trip, by accessing https://hmspermits.noaa.gov or by using the HMS Catch Reporting app, or calling (888) 872-8862 (Monday through Friday from 8 a.m. until 4:30 p.m. Eastern Time).

Depending on the level of fishing effort and catch rates of BFT, NMFS may determine that additional retention limit adjustments or closures are necessary to ensure available quota is not exceeded or to enhance scientific data collection from, and fishing opportunities in, all geographic areas. If needed, subsequent adjustments will be published in the Federal Register. In addition, fishermen may access https://hmspermits.noaa.gov, for updates on quota monitoring and inseason adjustments.

HMS Angling and HMS Charter/Headboat permit holders may catch and release (or tag and release) BFT of all sizes, subject to the requirements of the catch-and-release and tag-and-release programs at § 635.26. All BFT that are released must be handled in a manner that will maximize their survival, and without removing the fish from the water, consistent with requirements at § 635.21(a)(1). For additional information on safe handling, see the “Careful Catch and Release” brochure available at https://www.fisheries.noaa.gov/resource/outreach-and-education/careful-catch-and-release-brochure.

Classification

NMFS issues this action pursuant to section 305(d) of the Magnuson-Stevens Act (16 U.S.C. 1855(d)) and regulations at 50 CFR part 635 and this action is exempt from review under Executive Order 12866.

The Assistant Administrator for NMFS (AA) finds that pursuant to 5 U.S.C. 533(b)(B), there is good cause to waive prior notice of, and an opportunity for public comment on, this action because it is impracticable and contrary to the public interest for the following reasons. Specifically, the regulations implementing the HMS FMP and its amendments provide for inseason retention limit adjustments to respond to the unpredictable nature of BFT availability on the fishing grounds, the migratory nature of this species, and the regional variations in the BFT fishery. Providing for prior notice and opportunity to comment is impracticable and contrary to the public interest. Based on available quotas, fishery performance in recent years, and the availability of BFT on the fishing grounds, responsive adjustment of the daily retention limit is warranted to extend fishing opportunities later into the season. NMFS could not have proposed this action earlier, as it needed to consider and respond to complete 2024 recreational landings data. If NMFS was to offer a public comment period or delay in effective date now, after having appropriately considered that information, it would preclude the fishery from harvesting BFT that are legally available consistent with all of the regulatory criteria, and/or could result in selection of a retention limit inappropriately high or low for the amount of quota available for the period. Fisheries under the default Angling category daily retention limit are currently underway and thus prior notice would be contrary to the public interest. Delays in this action would adversely affect those HMS Charter/Headboat permitted vessels that would otherwise have an opportunity to harvest more than the default retention limit of one school BFT per day/trip. Analysis of available data shows that adjustment to the BFT daily retention limit from the default level would result in minimal risk of exceeding the ICCAT-allocated quota. NMFS provides notification of retention limit adjustments by publishing the notice in the Federal Register, emailing individuals who have subscribed to the Atlantic HMS News electronic newsletter, and updating the information posted on the Atlantic Tunas Information Line and on https://hmspermits.noaa.gov. Taking this action does not raise conservation and management concerns, and would support effective management of the BFT fishery. NMFS notes that the public had an opportunity to comment on the underlying rulemakings that established the U.S. BFT quota and the inseason adjustment criteria.

For all of the above reasons, the AA also finds that pursuant to 5 U.S.C. 553(d), there is good cause to waive the 30-day delay in effectiveness.

Authority: 16 U.S.C. 971 et seq. and 1801 et seq.

Dated: May 28, 2025.
Kelly Denit,
Director, Office of Sustainable Fisheries, National Marine Fisheries Service.

[FR Doc. 2025-09985 Filed 5-29-25; 4:15 pm]

BILLING CODE 3510-22-P